DEPARTMENT OF EDUCATION

Applications for New Awards; Expanding Opportunity Through Quality Charter Schools Program (CSP)—Model Development and Dissemination Grants

AGENCY: Office of Elementary and Secondary Education, Department of Education.

ACTION: Notice.

SUMMARY: The Department of Education (Department) is issuing a notice inviting applications for fiscal year (FY) 2025 for CSP—Model Development and Dissemination Grants.

DATES:

Applications Available: May 16, 2025.

Application Deadline: July 14, 2025.

Deadline for Intergovernmental Review: September 12, 2025.

ADDRESSES: For the addresses for obtaining and submitting an application, please refer to the Application Submission Instructions section.

FOR FURTHER INFORMATION CONTACT: Sareeta Schmitt, U.S. Department of Education, 400 Maryland Avenue SW, Washington, DC 20202-5970. Telephone: (202) 205-0730. Email: sareeta.schmitt@ed.gov.

If you are deaf, hard of hearing, or have a speech disability and wish to access telecommunications relay services, please dial 7-1-1.

SUPPLEMENTARY INFORMATION:

Full Text of Announcement

I. Funding Opportunity Description

1. Purpose of Program: The CSP—Model Development and Dissemination (MDD) Grant Program offers competitive grants to eligible organizations to develop and broadly disseminate essential information about implementing innovative and effective practices of high-quality charter school ¹ models.

¹ Defined terms are italicized the first time they are used.

Charter schools supported under the CSP provide elementary or secondary education, or both, and may also serve students in early childhood education programs or postsecondary students.

Assistance Listing Number: 84.282G.

OMB Control Number: 1894-0006.

Background: The CSP—Model Development and Dissemination (MDD) Grant Program offers competitive grants to eligible organizations to develop and broadly disseminate information about innovative and effective practices of high-quality charter school models. The Department is establishing this program under the authority to disseminate best practices regarding charter schools in section 4305(a)(3)(B) of the Elementary and Secondary Education Act of 1965, as amended (ESEA). This program supports the Department's efforts to expand access to high-quality education options for our Nation's students and families, ultimately leading to better student outcomes. The program helps accomplish this goal by spreading awareness among teachers, school leaders, and other stakeholders of key strategies of high-performing charter schools and promoting their collaborative adoption in additional school communities.

Charter schools are a key pillar in providing access to education choice, empowering parents and families to seek the best learning environment for their children and fostering innovation in education models that address the unique needs of students across the country. Through this program, the Department is particularly interested in information about strategies and practices of high-quality charter schools that use innovative education models designed to meet the needs of students and provide parents and families with high-quality options for their children. Unique and innovative school models include charter schools that focus on one or more of the following: classical and civics education; science, technology, engineering, and mathematics (STEM) education, including computer science; career and technical education; or other innovative educational practices with evidence of success; or serving students with unique needs, such as students with disabilities or receiving special education or related services, military-connected students, students living in rural areas, or Native American students.

Proposed projects under this program must focus on at least one stage of the lifecycle of a charter school, which typically involves design and planning, securing authorization, preparing to open (including obtaining a facility), enrollment and operations, achieving and sustaining student success, and potentially replication or expansion.² Projects must also address key implementation challenges, including how these challenges were overcome. Potential challenges may include obtaining authorizer approval, securing support from parents and the community, enrolling and retaining students, finding suitable facilities, recruiting and retaining a high-quality educator workforce, and improving student outcomes.

² For more information on the lifecycle of a charter school, visit the National Charter School Resource Center's What is a Charter School? page: https://charterschoolcenter.ed.gov/what-charter-school#cycle.

Note: The table below highlights key aspects of the funding opportunity in this NIA. Applicants are encouraged to thoroughly review this notice for a detailed listing and description of all competition requirements before submitting an application.

Table 1—Funding Opportunity At-a-Glance
Topic | Notes
Application Deadline | All interested applicants must submit applications in Grants.gov no later than 11:59 p.m. Eastern time on July 14, 2025. Complete instructions on how to register and apply can be found at Grants.gov.
Eligibility | Entities eligible to apply include: charter schools (as defined in this notice); charter management organizations (as defined in this notice); State educational agencies; State charter school boards; State Governors; charter school support organizations (as defined in this notice); authorized public chartering agencies (as defined in this notice); and other public and private nonprofit organizations that operate, manage, or support charter schools. Entities that apply for this competition may apply as a partnership or consortium and if so applying, must comply with the requirements for group applications set forth in 34 CFR 75.127-129.
Funding and Project Period | Estimated Available Funds: $4,000,000. Estimated Range of Awards: $350,000 to $500,000 per year. Estimated Average Size of Awards: $425,000 per year. Estimated Number of Awards: 8-10. Project Period: Up to 60 months. The Department is not bound by any estimates in this notice.
Absolute Priority (AP) | This notice includes one AP. We consider for funding only applications that meet the AP.
The full text of the AP is in the Priority section below | AP: Development and Dissemination of Information on Innovative and Effective Practices of High-Quality Charter School Models.
Selection Criteria | We evaluate applications using selection criteria. The maximum score for addressing all selection criteria is 100 points.
The full text of the selection criteria is in the Selection Criteria section below | Selection Criteria: (a) Significance (up to 30 points). (b) Quality of the Project Design (up to 30 points). (c) Quality of the Management Plan and Adequacy of Resources (up to 40 points).

2. Award Information.

Type of Award: Discretionary grants.

Estimated Available Funds: $4,000,000.

Contingent upon the availability of funds and the quality of applications, we may make additional awards in subsequent years from the list of unfunded applications from this competition.

Estimated Range of Awards: $350,000 to $500,000 per year.

Estimated Average Size of Awards: $425,000 per year.

Estimated Number of Awards: 8-10.

Note: The Department is not bound by any estimates in this notice. The estimated range and average size of awards are based on a single 12-month budget period. We may use FY 2025 funds to support multiple 12-month budget periods for one or more grantees.

Project Period: Up to 60 months.

3. Eligible Applicants for Grants: We are establishing the eligible entities for this competition in accordance with section 437(d)(1) of GEPA, 20 U.S.C. 1232(d)(1). Eligible entities include: Charter schools (as defined in this notice); charter management organizations (as defined in this notice); State educational agencies (SEAs); State charter school boards; State Governors; charter school support organizations (as defined in this notice); authorized public chartering agencies (as defined in this notice); and other public and private nonprofit organizations that operate, manage, or support charter schools.

Entities that apply for this competition may apply as a partnership or consortium and if so applying, must comply with the requirements for group applications set forth in 34 CFR 75.127-129.

Note: Under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

4. Priority: We are establishing this priority for the FY 2025 grant competition and any subsequent year in which we make awards from the list of unfunded applications from this competition, in accordance with section 437(d)(1) of the General Education Provisions Act (GEPA), 20 U.S.C. 1232(d)(1). This priority is an absolute priority. Under 34 CFR 75.105(c)(3), we consider only applications that meet this priority. An application must address all parts of the absolute priority to be considered for funding.

The absolute priority is:

Development and Dissemination of Information on Innovative and Effective Practices of High-Quality Charter School Models.

Projects designed to develop and broadly disseminate information on strategies and practices of high-quality charter school models, including challenges in implementing such strategies and practices and how such challenges were overcome. Projects under this priority must disseminate such information by creating a variety of tools and resources (e.g., guides, frameworks, and/or other publications) and sharing them through a variety of formats (e.g., traditional and digital media, workshops) to promote widespread adoption.

To meet this priority, eligible applicants must include the following in their applications.

(1) A description of the strategies and practices of the high-quality charter school model, including—

(a) A description of the specific high-quality charter school model;

(b) Evidence that the model meets requirements for a high-quality charter school under section 4310(8) of the ESEA; and

(c) A description of one or more specific selected strategies or practices of the model to be covered by the proposed project, including—

(i) An identification of the stage(s) of the lifecycle of a charter school (e.g., the design and planning stage) the strategy or practice addresses; and

(ii) A description of how the strategy or practice was developed and implemented, including key challenges in implementing the strategy or practice and how these challenges were overcome.

(2) A description of how the applicant will develop and disseminate information on the selected strategies or practices of the high-quality charter school model, including—

(a) A description of the tools and resources the applicant will create, including how these tools and resources will facilitate replication of the strategies or practices in other charter schools, traditional public schools, or non-public schools, as appropriate; and

(b) A description of the dissemination mechanisms the applicant will use to broadly share these tools and resources, including how the dissemination mechanisms are unique and distinct from what currently exists in the field, as well as the intended reach.

5. Application Requirement: Applications for CSP MDD Grants funds must address the following application requirements, which we establish for FY 2025 and any subsequent year in which we make awards from the list of unfunded applications from this competition, in accordance with section 437(d)(1) of GEPA, 20 U.S.C. 1232(d)(1). An applicant may choose to respond to these requirements in the context of its responses to the absolute priority and selection criteria.

(a) Provide a project plan that includes: a specific timeline for implementing each component of the absolute priority identified in this notice and all proposed grant activities; a logic model that describes the purpose of the project based on the absolute priority; clearly specified, measurable project objectives that are aligned with the project purpose; and the specific strategies, behaviors, and initiatives that will be implemented to accomplish project objectives. For each project objective, the project plan must include—

(i) Inputs and Resources: Identification of the specific costs that will be allocated to the proposed project. These costs must represent the inputs and resources (e.g., personnel, contracted services, supplies, and equipment) that are necessary to generate and support grant project activities and are necessary to produce project outputs. Applicants must ensure that the total project costs, as identified in this section, are consistent with the ED 524B budget form and response to selection criteria;

(ii) Project Activities: Identification of the specific activities proposed to be funded under the grant; the estimated cost of those activities under the grant project; and how these activities are linked to the target grant project outputs and outcomes;

(iii) Project Outputs: Identification of the specific project deliverables, work products, and other outputs of the proposed project, including the cost of those outputs. Examples of outputs include—

(1) Publications (e.g., best practice guides, toolkits, evaluation reports, etc.);

(2) Workshops or presentations at stakeholder conferences; and,

(3) Other forms of traditional and digital media (e.g., videos, webinars, podcasts, blogs, vlogs).

(iv) Project Outcomes: Identification of the anticipated project outcomes or effects as a result of the proposed project.

(b) Provide a management plan that describes clearly defined responsibilities, timelines, and milestones for executing the project and achieving project outcomes.

(c) Provide a dissemination plan based on the absolute priority in this notice that includes the number and description of target audience and entities for which best-practices information will be disseminated, as well as a description of the mechanisms the applicant will use to disseminate information on its proposed projects.

(d) Provide an evaluation plan that includes performance measures that are aligned to the project purpose, project objectives, and project outcomes as well as to the intended outcomes of the proposed project.

Applications submitted must be for activities related to and consistent with the absolute priority.

5. Waiver of Proposed Rulemaking: Under the Administrative Procedure Act (5 U.S.C. 553), the Department generally offers interested parties the opportunity to comment on proposed priorities, selection criteria, definitions, and requirements. Section 437(d)(1) of GEPA, however, allows the Secretary to exempt from rulemaking requirements regulations governing the first grant competition under a new or substantially revised program authority.

This is the first grant competition for this program under section 4305(a)(3)(B) of the ESEA, and, therefore, this competition qualifies for this exemption. In order to ensure timely grant awards, the Secretary has decided to forgo public comment on the priority and requirements in this notice in accordance with section 437(d)(1) of GEPA. This priority and requirements will apply to grants awarded under this competition in FY 2025 and any subsequent year in which we make awards from the list of unfunded applications from this competition.

6. Definitions: The following definitions are from section 4310 of the ESEA (20 U.S.C. 7221i) and 34 CFR part 77.

Ambitious means promoting continued, meaningful improvement for program participants or for other individuals or entities affected by the grant or representing a significant advancement in the field of education research, practices, or methodologies. When used to describe a performance target (as defined in this notice), whether a performance target is ambitious depends upon the context of the relevant performance measure (as defined in this notice) and the baseline (as defined in this notice) for that measure. (34 CFR 77.1)

Authorized public chartering agency means an SEA, LEA, or other public entity that has the authority pursuant to State law and approved by the Secretary to authorize or approve a charter school (ESEA section 4310(1)).

Baseline means the starting point from which performance is measured and targets are set. (34 CFR 77.1)

Charter management organization means a nonprofit organization that operates or manages a network of charter schools linked by centralized support, operations, and oversight (ESEA section 4310(3)).

Charter school means a public school that—

(1) In accordance with a specific State statute authorizing the granting of charters to schools, is exempt from significant State or local rules that inhibit the flexible operation and management of public schools, but not from any rules relating to the other requirements of this definition;

(2) Is created by a developer as a public school, or is adapted by a developer from an existing public school, and is operated under public supervision and direction;

(3) Operates in pursuit of a specific set of educational objectives determined by the school's developer and agreed to by the authorized public chartering agency;

(4) Provides a program of elementary or secondary education, or both;

(5) Is nonsectarian in its programs, admissions policies, employment practices, and all other operations, and is not affiliated with a sectarian school or religious institution; [1]

(6) Does not charge tuition;

(7) Complies with the Age Discrimination Act of 1975, title VI of the Civil Rights Act of 1964, title IX of the Education Amendments of 1972, section 504 of the Rehabilitation Act of 1973, the Americans with Disabilities Act of 1990 (42 U.S.C. 12101 et seq.), section 444 of General Education Provisions Act (GEPA) (20 U.S.C. 1232g) (commonly referred to as the “Family Educational Rights and Privacy Act of 1974”), and part B of the Individuals with Disabilities Education Act (IDEA);

(8) Is a school to which parents choose to send their children, and that—

(i) Admits students on the basis of a lottery, consistent with section 4303(c)(3)(A) of the ESEA, if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (8)(i) of this definition;

(9) Agrees to comply with the same Federal and State audit requirements as do other elementary schools and secondary schools in the State, unless such State audit requirements are waived by the State;

(10) Meets all applicable Federal, State, and local health and safety requirements;

(11) Operates in accordance with State law;

(12) Has a written performance contract with the authorized public chartering agency in the State that includes a description of how student performance will be measured in charter schools pursuant to State assessments that are required of other schools and pursuant to any other assessments mutually agreeable to the authorized public chartering agency and the charter school; and

(13) May serve students in early childhood educational programs or postsecondary students. (ESEA section 4310(2))

Charter school support organization means a nonprofit, nongovernmental entity that is not an authorized public chartering agency and provides, on a statewide basis—

(1) Assistance to developers during the planning, program design, and initial implementation of a charter school; and

(2) Technical assistance to operating charter schools. (ESEA section 4310(4))

High-quality charter school means a charter school that—

(1) Shows evidence of strong academic results, which may include strong student academic growth, as determined by a State;

(2) Has no significant issues in the areas of student safety, financial and operational management, or statutory or regulatory compliance;

(3) Has demonstrated success in significantly increasing student academic achievement, including graduation rates where applicable, for all students served by the charter school; and

(4) Has demonstrated success in increasing student academic achievement, including graduation rates where applicable, for each of the subgroups of students, as defined in section 1111(c)(2) of the ESEA, except that such demonstration is not required in a case in which the number of students in a group is insufficient to yield statistically reliable information or the results would reveal personally identifiable information about an individual student. (ESEA section 4310(8)).

Logic model (also referred to as theory of action) means a framework that identifies key project components of the proposed project (i.e., the active “ingredients” that are hypothesized to be critical to achieving the relevant outcomes) and describes the theoretical and operational relationships among the key project components and relevant outcomes. (34 CFR 77.1)

Performance measure means any quantitative indicator, statistic, or metric used to gauge program or project performance. (34 CFR 77.1)

Performance target means a level of performance that an applicant would seek to meet during the course of a project or as a result of a project. (34 CFR 77.1)

Project component means an activity, strategy, intervention, process, product, practice, or policy included in a project. Evidence may pertain to an individual project component or to a combination of project components (e.g., training teachers on instructional practices for English learners and follow-on coaching for these teachers). (34 CFR 77.1)

Relevant outcome means the student outcome(s) or other outcome(s) the key project component is designed to improve, consistent with the specific goals of the program. (34 CFR 77.1)

7. Selection Criteria: The selection criteria for this competition are from 34 CFR 75.210. The maximum possible total score an application can receive for addressing the selection criteria is 100 points. The maximum possible score for addressing each criterion is indicated in parentheses following the criterion.

(a) Significance (up to 30 points).

The Secretary considers the significance of the proposed project. In determining the significance of the proposed project, the Secretary considers the extent to which the resources, tools, and implementation lessons of the proposed project will be disseminated in ways to the target population and local community that will enable them and others (including practitioners, researchers, education leaders, and partners) to implement similar strategies.

(b) Quality of the project design (up to 30 points).

The Secretary considers the quality of the design of the proposed project. In determining the quality of the design of the proposed project, the Secretary considers the following factors:

(i) The extent to which the goals, objectives, and outcomes to be achieved by the proposed project are clearly specified, measurable, and ambitious yet achievable within the project period, and aligned with the purposes of the grant program (up to 5 points).

(ii) The quality of the logic model or other conceptual framework underlying the proposed project, including how inputs are related to outcomes (up to 15 points).

(iii) The extent to which the proposed project represents an exceptional approach to any absolute priority or absolute priorities used in the competition (up to 10 points).

(c) Quality of the management plan and adequacy of resources (up to 40 points).

The Secretary considers the quality of the management plan and adequacy of resources for the proposed project. In determining the quality of the management plan and adequacy of resources for the proposed project, the Secretary considers the following factors:

(i) The feasibility of the management plan to achieve project objectives and goals on time and within budget, including clearly defined responsibilities, timelines, and milestones for accomplishing project tasks (up to 15 points).

(ii) The extent to which the budget is adequate to support the proposed project, and the costs are reasonable in relation to the objectives, design, and potential significance of the proposed project (up to 10 points).

(iii) The extent to which the project director or principal investigator, when hired, has the qualifications required for the project, including formal training or work experience in fields related to the objectives of the project and experience in designing, managing, or implementing similar projects for the target population to be served by the project (up to 10 points).

(iv) The extent to which the time commitment of the project director and principal investigator and other key project personnel are appropriate and adequate to meet the objectives of the proposed project (up to 5 points).

8. Performance Measures: Applicants must propose project-specific performance measures and performance targets consistent with the objectives of the proposed project and the project outcomes identified in the logic model. The project-specific performance measures should be sufficient to gauge progress throughout the grant period, at least on an annual basis, and to show results by the end of the grant period. Applicants must provide the following information as directed under 34 CFR 75.110(b) and (c):

(a) Project-Specific Performance Measures. How each proposed performance measure would: accurately measure the performance of the project; be consistent with the performance measures established for the program funding the competition; and be used to inform continuous improvement of the project.

(b) Baseline Data. Why each proposed baseline is valid and reliable, including an assessment of the quality data used to establish the baseline; or, if the applicant has determined that there are no valid, established baseline data for a particular performance measure, an explanation of why there is no established baseline and of how and when, during the project period, the applicant would establish a valid baseline for the performance measure.

(c) Performance targets. Why each proposed performance target is ambitious yet achievable compared to the baseline for the performance measure and when, during the project period, the applicant would meet the performance target(s).

(d) Data collection and reporting. (i) The data collection and reporting methods the applicant would use for the project-specific performance measures and why those methods are likely to yield reliable, valid, and meaningful performance data; and (ii) The applicant's capacity to collect and report reliable, valid, and meaningful performance data, as evidenced by high-quality data collection, analysis, and reporting in other projects or research.

All grantees must submit an annual performance report with information that is responsive to these performance measures.

9. Program Authority and Applicable Regulations:

Program Authority: 4305(a)(3)(B) of the ESEA, 20 U.S.C. 7221d.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200 (Uniform Guidance), as adopted and amended as regulations of the Department in 2 CFR part 3474.

Note: The regulations in 34 CFR part 79 apply to all applicants except federally recognized Indian Tribes.

II. Supplemental Requirements

1. a. Cost Sharing or Matching: This program does not require cost sharing or matching.

b. Supplement-Not-Supplant: This program does not involve supplement-not-supplant funding requirements.

c. Indirect Cost Rate Information: This program uses an unrestricted indirect cost rate. For more information regarding indirect costs, or to obtain a negotiated indirect cost rate, please see https://www.ed.gov/about/ed-offices/ofo#Indirect-Cost-Division.

d. Administrative Cost Limitation: This program does not include any program-specific limitation on administrative expenses. All administrative expenses must be reasonable and necessary and conform to Cost Principles described in 2 CFR part 200 subpart E of the Uniform Guidance.

2. Subgrantees: A grantee under this program may not award subgrants to entities to directly carry out project activities described in its application.

3. Reasonable and Necessary Costs: In accordance with 2 CFR 200.404, applicants must ensure that all costs included in the proposed budget are reasonable and necessary in light of the goals and objectives of the proposed project. Any costs determined by the Secretary to be unreasonable or unnecessary will be removed from the final approved budget.

4. Funding Restrictions: Grant funds may be used only for activities that are related to the development and broad dissemination of information on strategies and practices of high-quality charter school models regarding the absolute priority and that are included in the grantee's approved application. Grantees are expected to identify the specific costs associated with each included activity.

Grantees may not use grant funds to conduct charter school authorizing activities, or to open new charter schools. Grantees may not use grant funds to acquire or finance the acquisition of a charter school facility, including through credit enhancement, direct lending, or subgrants.

Grantees may not use grant funds for general organizational operating support beyond the costs associated with this grant project. In accordance with section 437(d)(1) of GEPA, 20 U.S.C. 1232(d)(1), we establish that no more than 5 percent of grant funds may be used for direct administration of the grant project.

5. Audits: (i) A non-Federal entity that expends $1,000,000 or more during the non-Federal entity's fiscal year in Federal awards must have a single or program-specific audit conducted for that year in accordance with the provisions of 2 CFR part 200. (2 CFR 200.501(a))

(ii) A non-Federal entity that expends less than $1,000,000 during the non-Federal entity's fiscal year in Federal awards is exempt from Federal audit requirements for that year, except as noted in 2 CFR 200.503 (Relation to other audit requirements), but records must be available for review or audit by appropriate officials of the Federal agency, pass-through entity, and Government Accountability Office. (2 CFR 200.501(d)).

III. Application and Submission Information

1. Application Submission Instructions: Applicants are required to follow the Common Instructions for Applicants to Department of Education Discretionary Grant Programs, published in the Federal Register on December 23, 2024 (89 FR 104528), and available at https://www.federalregister.gov/d/2024-30488, which contain requirements and information on how to submit an application.

2. Submission of Proprietary Information: Given the types of projects that may be proposed in applications for this competition, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Pre-Application Webinar Information: The Department will hold a pre-application meeting via webinar to provide technical assistance to prospective applicants. Detailed information regarding this webinar will be provided at What's New at CSP: https://www.ed.gov/grants-and-programs/charter-schools-program.

For further information about the pre-application meeting, contact Sareeta Schmitt, U.S. Department of Education, 400 Maryland Avenue, SW, Washington, DC 20202-5970. Telephone: (202) 205-0730. Email: sareeta.schmitt@ed.gov.

IV. Application Review Information

1. Review and Selection Process: We remind potential applicants that in reviewing applications in any discretionary grant competition, the Secretary may consider, under 34 CFR 75.217(d)(3)(ii), the past performance of the applicant in carrying out a previous award, such as the applicant's use of funds, completion of grant activities, achievement of project objectives, and compliance with grant conditions. The Secretary may also consider whether the applicant failed to submit a timely performance report or submitted a report of unacceptable quality. In assessing the applicant's performance and use of funds under a previous or existing award, the Secretary will consider, among other things, the outcomes the applicant has achieved and the results of any Departmental grant monitoring, including the applicant's progress in remedying any deficiencies identified in such monitoring.

In addition, in making a competitive grant award, the Secretary requires various assurances, including those applicable to Federal civil rights laws that prohibit discrimination in programs or activities receiving Federal financial assistance from the Department (34 CFR 100.4, 104.5, 106.4, 108.8, and 110.23).

2. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, appendix XII, require you to report certain integrity information to SAM semiannually. Please review these requirements if this grant plus all the other Federal funds you receive exceed $10,000,000.

V. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.254, the Secretary may provide a grantee with additional funding for data collection analysis and reporting. In this case the Secretary establishes a data collection period.

5. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

6. Project Directors' Meeting: Applicants approved for funding under this competition must attend a meeting for project directors during each year of the project. The meeting may be held virtually or in person at a location to be determined in the continental United States. Applicants may include, if applicable, the cost of attending these meetings in their proposed budgets as allowable administrative costs.

7. Technical Assistance: Applicants approved for funding under this competition must participate in a learning community for all funded projects. This participation includes attending all technical assistance sessions offered by the CSP Office, including project directors' meetings and other on-site and virtual gatherings sponsored by the Department and its contracted technical assistance providers and partners throughout the performance period.

VI. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Hayley B. Sanon,
Principal Deputy Assistant Secretary and Acting Assistant Secretary, Office of Elementary and Secondary Education.

[FR Doc. 2025-08766 Filed 5-15-25; 8:45 am]

BILLING CODE 4000-01-P